DEPARTMENT OF AGRICULTURE

Rural Housing Service

Notice of Request for Extension of a Currently Approved Information Collection

AGENCY: Rural Housing Service, USDA.

ACTION: Proposed collection; comments requested.

SUMMARY: In accordance with the Paperwork Reduction Act of 1995, this notice announces the Rural Housing Service's intention to request an extension for a currently approved information collection in support of the Single Family Housing Direct Loans and Grants programs. The collection involves the use of Form RD 410-8, “Applicant Reference Letter.” The Form will be used to obtain information about an applicant's credit history that might not appear on a credit report and to provide clarification on the promptness of applicant's payments on debts, which enables Rural Housing Service to make better creditworthiness decisions.

DATES: Comments on this notice must be received by August 20, 2012 to be assured of consideration.

FOR FURTHER INFORMATION CONTACT: Migdaliz Bernier, Finance and Loan Analyst, Single Family Housing, Rural Housing Service, U.S. Department of Agriculture, Mail STOP 0783, 1400 Independence Ave. SW., Washington, DC 20250-0783. Phone number 202-690-3833; fax number 202-720-2232. Office hours are from 8:00 a.m. to 4:30 p.m., Monday through Friday, except Federal holidays.

SUPPLEMENTARY INFORMATION: Title: Form RD 410-8, “Applicant Reference Letter”.

OMB Number: 0575-0091.

Expiration Date of Approval: November 30, 2012.

Type of Request: Extension of a currently approved information collection.

Abstract: The Rural Housing Service (RHS) must, by law, make available to the applicant, upon request, the source of information used to make an adverse decision. Individual references may be solicited with the clear understanding that if the information is used to deny credit the information will be made available to the applicant upon request. Without this information, the Agency is unable to determine if a customer would qualify for services.

Estimate of Burden: Public reporting burden for this collection of information is estimated to average 6 minutes per response.

Respondents: Individuals and business already extending credit/financing to Section 502 and 504 applicants.

Estimated Number of Respondents: 25,155.

Estimated Number of Responses per Respondent: 1.

Estimated Number of Responses: 25,155.

Estimated Total Annual Burden on Respondents: 2,516.

Copies of this information collection can be obtained from Brigitte Sumter, Regulations and Paperwork Management Branch, at (202) 692-0042.

Comments

Comments are invited on: (a) Whether the proposed collection of information is necessary for the proper performance of the functions of Rural Housing Service, including whether the information will have practical utility; (b) the accuracy of Rural Housing Service's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Brigitte Sumter, Regulations and Paperwork Management Branch, U.S. Department of Agriculture, Rural Development, STOP 0742, 1400 Independence Ave. SW., Washington, DC 20250.

All responses to this notice will be summarized and included in the request for OMB approval. All comments will also become a matter of public record.

Dated: June 11, 2012.
Tammye Treviño,
Administrator, Rural Housing Service.

[FR Doc. 2012-14910 Filed 6-18-12; 8:45 am]

BILLING CODE 3410-XV-P